DEPARTMENT OF ENERGY

Federal Energy Regulatory Commission

Combined Notice of Filings #1

February 10, 2006.

Take notice that the Commission received the following electric rate filings:

Docket Numbers: ER06-602-000.

Applicants: Louisville Gas and Electric Company; Kentucky Utilities Company.

Description: Louisville Gas & Electric Co. & Kentucky Utilities Company submit agreement with the Kentucky Municipals.

Filed Date: 02/02/2006.

Accession Number: 20060206-0178.

Comment Date: 5 p.m. Eastern Time on Thursday, February 23, 2006.

Docket Numbers: ER06-608-000.

Applicants: Midwest Independent Transmission System Operator, Inc.

Description: Midwest Independent Transmission System Operator Inc. submits proposed revisions to the Midwest ISO's Open Access Transmission and Energy Markets Tariff.

Filed Date: 02/03/2006.

Accession Number: 20060208-0175.

Comment Date: 5 p.m. Eastern Time on Friday, February 24, 2006.

Docket Numbers: ER06-609-000.

Applicants: Puget Sound Energy, Inc.

Description: Puget Sound Energy, Inc. submits an amended & restated Network Integration Transmission Service Agreement with the Port of Seattle.

Filed Date: 02/03/2006.

Accession Number: 20060208-0176.

Comment Date: 5 p.m. Eastern Time on Friday, February 24, 2006.

Docket Numbers: ER06-610-000.

Applicants: Midwest Independent Transmission System Operator, Inc.

Description: Midwest Independent Transmission System Operator, Inc. submits an executed Amended & Restated Interconnection, Operation & Maintenance Agreement with Indiana Municipal Power Agency.

Filed Date: 02/03/2006.

Accession Number: 20060208-0178.

Comment Date: 5 p.m. Eastern Time on Friday, February 24, 2006.

Docket Numbers: ER97-1481-009.

Applicants: Idaho Power Company.

Description: Idaho Power Co. submits the addition of a new generation facility to its system, the Bennett Mountain power plant.

Filed Date: 02/03/2006.

Accession Number: 20060208-0234.

Comment Date: 5 p.m. Eastern Time on Friday, February 24, 2006.

Docket Numbers: ER98-1150-006; EL05-87-000.

Applicants: Tucson Electric Power Company.

Description: Tucson Electric Power Co. submits an amendment to its 6/13/05 compliance filing as evidence that it lacks generation market power in its home control area.

Filed Date: 01/24/2006.

Accession Number: 20060126-0190.

Comment Date: 5 p.m. Eastern Time on Friday, March 3, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-2257 Filed 2-15-06; 8:45 am]

BILLING CODE 6717-01-P